DEPARTMENT OF THE INTERIOR

Fish and Wildlife Service

Information Collection Renewal To Be Sent to the Office of Management and Budget (OMB) for Approval Under the Paperwork Reduction Act; OMB Control Number 1018-0075; Federal Subsistence Regulations and Associated Forms, 50 CFR Part 100

AGENCY: Fish and Wildlife Service, Interior.

ACTION: Notice; request for comments.

SUMMARY: We (Fish and Wildlife Service) plan to request that OMB renew approval for our information collection associated with the Federal subsistence regulations. The current OMB control number for this information collection is 1018-0075, which expires August 31, 2006. We will request that OMB renew approval of this information collection for a 3-year term.

DATES: You must submit comments on or before May 1, 2006.

ADDRESSES: Send your comments on the information collection to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request a copy of the information collection requirement, explanatory information, or related forms, contact Hope Grey at the addresses above or by telephone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

The Alaska National Interest Lands Conservation Act (ANILCA) and Fish and Wildlife Service regulations at 50 CFR 100 require that persons engaged in taking fish and wildlife on public lands in Alaska report their take to the Federal Subsistence Board (Board) and that rural residents who want to participate in special hunts or fisheries must apply for and obtain a special permit to do so. We use forms 7FS-1, 7FS-2, and 7FS-3 to collect information for the permitting process. When we ask OMB to renew this information collection, we will assign Fish and Wildlife Service form numbers to these forms. We will ask OMB to approve FWS Form 3-2326 (Federal Subsistence Hunt Application, Permit, and Report), FWS Form 3-2327 (Designated Hunter Permit Application, Permit, and Report), and FWS Form 3-2328 (Federal Subsistence Fishing Application, Permit, and Report). The information that we will collect on these proposed forms is identical to that collected on the current OMB-approved forms.

Title: Federal Subsistence Hunt Application, Permit, and Report.

OMB Control Number: 1018-0075.

Form Number: FWS Form 3-2326 (supersedes form 7FS-1).

Frequency of Collection: On Occasion.

Description of Respondents: Federally defined rural residents.

This form allows Federal subsistence users to participate in special hunts that are not available to the general public, but are provided for by Title VIII of ANILCA. The application requires information necessary to identify the applicant (name, date of birth, address, telephone number, and Alaska hunting license number). The Board uses the harvest information that the permitee provides in the hunt report (number of days hunted, method of getting to hunt area, drainages hunted and locations, date animals were taken, and sex of animals taken) to evaluate subsistence harvest success; the effectiveness of season lengths, harvest quotas, and harvest restrictions; hunting patterns and practices; and hunter use. The Board uses this information to set future seasons and harvest limits for Federal subsistence resource users. These seasons and harvest limits are set to meet the needs of subsistence hunters without adversely impacting the health of existing wildlife populations.

Title: Designated Hunter Permit Application, Permit, and Report.

OMB Control Number: 1018-0075.

Form Number: FWS Form 3-2327 (supersedes form 7FS-2).

Frequency of Collection: On Occasion.

Description of Respondents: Federally defined rural residents.

The Designated Hunter Application, Permit, and Report form allows qualified subsistence users to harvest wildlife for other qualified subsistence users who have a Federal Subsistence Hunt permit and report the harvest of multiple animals by a single hunter who is acting for others. We collect information on the application to identify the applicant (name, date of birth, address, telephone number, and Alaska hunting license number). The permit and hunt report include the names of persons for whom the permittee hunted, harvest ticket/permit number, unit, specific location, and number of male and female animals harvested.

Title: Federal Subsistence Fishing Application, Permit, and Report.

OMB Control Number: 1018-0075.

Form Number: FWS Form 3-2328 (supersedes form 7FS-3).

Frequency of Collection: On Occasion.

Description of Respondents: Federally defined rural residents.

This form allows qualified subsistence users to harvest fish for themselves or for others. This form also allows Federal subsistence users to participate in special fishing opportunities that are not available to the general public, but are provided for by Title VIII of ANILCA. The Board needs information on both the fisherman (name, address, telephone number, date of birth, and Alaska driver's license number or other identification) and the qualified subsistence users fished for (name and date of birth) to identify the individuals and ensure they are qualified subsistence users. The report includes information on dates fished, water body, gear used, and the fish harvested. Once the Board evaluates harvest information, it uses that data, along with other information, to set future seasons and harvest limits for Federal subsistence resource users. These seasons and harvest limits are set to meet the needs of subsistence fishermen without adversely impacting the health of existing fish populations.

Form No./activity | No. of respondents | Annual No. of responses | Avg burden hour per response (minutes) | Total annual burden hrs
3-2326—Application | 5,000 | 5,000 | 10 | 833.3
3-2326—Report | 5,000 | 5,000 | 5 | 416.6
3-2327—Application | 450 | 450 | 10 | 75.0
3-2327—Permit | 450 | 450 | 5 | 37.5
3-2327—Report | 450 | 450 | 5 | 37.5
3-2328—Application | 250 | 250 | 10 | 41.6
3-2328—Report | 250 | 250 | 20 | 83.3
Total | 11,850 | 11,850 |  | 1,524.8

We invite comments concerning this proposed information collection on: (1) Whether or not the collection of information is necessary, including whether or not the information will have practical utility; (2) the accuracy of our estimate of the burden for this collection of information; (3) ways to enhance the quality, utility, and clarity of the information to be collected; and, (4) ways to minimize the burden of the collection of information on respondents.

Dated: February 3, 2006.
Hope G. Grey,
Information Collection Clearance Officer, Fish and Wildlife Service.

[FR Doc. E6-2939 Filed 3-1-06; 8:45 am]

BILLING CODE 4310-55-P